CONSUMER PRODUCT SAFETY COMMISSION

16 CFR Part 1245

[Docket No. CPSC-2011-0074]

Safety Standard Addressing Blade-Contact Injuries on Table Saws; Notice of Opportunity for Oral Presentation of Comments

AGENCY: Consumer Product Safety Commission.

ACTION: Notice of opportunity for oral presentation of comments.

SUMMARY: The Consumer Product Safety Commission (CPSC, Commission) announces that there will be an opportunity for interested persons to present oral comments on the notice of proposed rulemaking (NPR) the Commission issued to address blade-contact injuries on table saws. The NPR proposed a standard that requires table saws limit the depth of cut to 3.5 millimeters when a test probe, acting as surrogate for a human body/finger, contacts the spinning blade at a radial approach rate of 1 meter per second (m/s). Any oral comments will be part of the rulemaking record.

DATES: The meeting will begin at 10 a.m., August 9, 2017, in the Hearing Room, 4th Floor of the Bethesda Towers Building, 4330 East West Highway, Bethesda, MD 20814. Requests to make oral presentations and the written text of any oral presentations must be received by the Office of the Secretary not later than 5 p.m. Eastern Standard Time (EST) on August 2, 2017.

ADDRESSES: The meeting will be in the Hearing Room, 4th Floor of the Bethesda Towers Building, 4330 East West Highway, Bethesda, MD 20814. Requests to make oral presentations, and texts of oral presentations, should be captioned: “Table Saws NPR; Oral Presentation” and submitted by email to cpsc-os@cpsc.gov, or mailed or delivered to the Office of the Secretary, Consumer Product Safety Commission, 4330 East-West Highway, Bethesda, MD 20814, not later than 5 p.m. EST on August 2, 2017.

FOR FURTHER INFORMATION CONTACT: For information about the purpose or subject matter of this meeting, contact Caroleene Paul, Project Manager, Directorate for Engineering Sciences, Consumer Product Safety Commission, 5 Research Place, Rockville, MD 20850; telephone (301) 987-2225; cpaul@cpsc.gov. For information about the procedure to make an oral presentation, contact Rockelle Hammond, Office of the Secretary, Consumer Product Safety Commission, 4330 East-West Highway, Bethesda, MD 20814; telephone (301) 504-7923.

SUPPLEMENTARY INFORMATION:

A. Background

On October 11, 2011, the Commission published an advance notice of proposed rulemaking (ANPR) to consider whether there may be an unreasonable risk of blade-contact injuries associated with table saws. 76 FR 62678. On May 12, 2017, the Commission published an NPR finding preliminarily that there is an unreasonable risk of blade-contact injuries associated with table saws. 82 FR 22190. To address the risk, the NPR proposed a performance requirement for table saws that would limit the depth of cut to 3.5 mm or less, when a test probe, acting as surrogate for a human body/finger, contacts the spinning blade at a radial approach rate of 1 m/s. The proposed requirement would be issued under the Consumer Product Safety Act (CPSA). The NPR is available at: https://www.gpo.gov/fdsys/pkg/FR-2017-05-12/pdf/2017-09098.pdf. The staff's briefing package is available at: https://www.cpsc.gov/s3fs-public/Proposed%20Rule%20-%20Safety%20Standard%20for%20Blade-Contact%20Injuries%20on%20Table%20Saws%20-%20January%2017%202017.pdf.

B. The Public Meeting

The CPSA requires that the Commission provide an opportunity for the “oral presentation of data, views, or arguments,” in addition to written comments, when the Commission develops a consumer product safety standard. 15 U.S.C. 2058(d)(2). Thus, the Commission is providing this forum for oral presentations concerning the proposed standard addressing blade-contact injuries on table saws. See the information under the headings DATES and ADDRESSES at the beginning of this document for information on making requests to give oral presentations at the meeting.

Participants should limit their presentations to approximately 10 minutes, exclusive of any periods of questioning by the Commissioners or CPSC staff. To prevent duplicative presentations, groups will be directed to designate a spokesperson. The Commission reserves the right to limit the time further for any presentation and impose restrictions to avoid excessive duplication of presentations, if necessary.

Dated: June 29, 2017.
Todd A. Stevenson,
Secretary, U.S. Consumer Product Safety Commission.

[FR Doc. 2017-14035 Filed 7-3-17; 8:45 am]

BILLING CODE 6355-01-P